DEPARTMENT OF ENERGY

National Coal Council

AGENCY: Department of Energy, Office of Fossil Energy.

ACTION: Notice of open meetings.

SUMMARY: This notice announces a virtual meeting of the National Coal Council (NCC) via WebEx. The Federal Advisory Committee Act requires that public notice of this meeting be announced in the Federal Register.

DATES: Monday, October 1, 2018 11:30 a.m.-1 p.m. (EST)

ADDRESSES: This will be virtual meeting conducted through WebEx. If you wish to join the meeting you must register by close of business (5:00 p.m. EST) on Wednesday, September 26th by using the form available at the following URL: http://www.nationalcoalcouncil.org/page-NCC-Events.html. The email address you provide in the on-line registration form will be used to forward instructions on how to join the meeting using WebEx. WebEx requires a computer, web browser and an installed application (free). Instructions for joining the webcast will be sent to you two days in advance of the meeting.

FOR FURTHER INFORMATION CONTACT: Joseph Giove, U.S. Department of Energy, E-136/Germantown Building, 19901 Germantown Road, Germantown, MD 20874-1290; Telephone 301-903-4130.

SUPPLEMENTARY INFORMATION:

Purpose of the Council: The National Coal Council provides advice and recommendations to the Secretary of Energy on general policy matters relating to coal and the coal industry.

Purpose of Meeting: The National Coal Council (the Council) will hold a virtual meeting via webcast at 11:30 a.m.-1:00 p.m. (EST) on October 1, 2018, for the sole purpose of reviewing and voting on the following two reports: “Advancing U.S. Coal Exports: An Assessment of Opportunities to Enhance Exports of U.S. Coal” and “Power Reset: Optimizing the Existing Coal Fleet to Ensure a Reliable and Resilient Grid.” The Council membership will be asked to accept these reports and forward them to the U.S. Secretary of Energy. The draft reports are available on the National Coal Council website at the following URL: http://www.nationalcoalcouncil.org/page-NCC-Studies.html.

Tentative Agenda

• Call to order by Joseph Giove, NCC Deputy Designated Federal Officer, Director Coal Business Operations, Office Fossil Energy, U.S. Department of Energy.

• NCC Report Presentation on “Advancing U.S. Coal Exports: An Assessment of Opportunities to Enhance Exports of U.S. Coal” by report co-chairs Justin Burk, Commercial Director, Peabody and David Lawson, Vice President Coal, Norfolk Southern Corporation.

• NCC Report Presentation on “Power Reset: Optimizing the Existing Coal Fleet to Ensure a Reliable & Resilient Power Grid” by Janet Gellici, CEO, National Coal Council Inc.

• Public Comment Period & Closing Remarks.

• Adjourn.

All attendees are requested to register in advance for the meeting at: http://www.nationalcoalcouncil.org/page-NCC-Events.html.

Exceptional Circumstances: This notice is being published less than 15 days in advance of the meeting on October 1, 2018, due to exceptional circumstances. The previous National Coal Council FACA meeting was announced in the Federal Register to take place on September 13, 2018, in Norfolk, VA. That meeting was postponed as a result of the State of Emergency issued by the Virginia Governor due to Hurricane Florence. The reports that are to be reviewed at this rescheduled meeting on October 1, 2018, have been posted to the NCC website for public review since September 4, 2018.

Public Participation: The meeting is open to the public. If you would like to file a written statement to be read during the virtual webcast, you may do so within five calendar days of the event. Please email your written statement to Joseph Giove at joseph.giove@hq.doe.gov by 5:00 p.m. (EST) on Wednesday, September 26th. If you would like to make an oral statement during the call regarding the reports being reviewed, you must both register to attend the webcast and also contact Joseph Giove (301-903-4130 or joseph.giove@hq.doe.gov) to state your desire to speak. You must make your request for an oral statement by 5:00 p.m. (EST) on Wednesday, September 26th. Reasonable provision will be made to include oral statements at the conclusion of the meeting. However, those who fail to register in advance may not be accommodated. Oral statements are limited to 5-minutes per organization and per person.

Minutes: A recording of the call will be posted on the FACA Database website: https://facadatabase.gov/committee/historymeetings.aspx?cid=408&fy=2017.

Signed in Washington, DC, on September 13, 2018.
Latanya Butler,
Deputy Committee Management Officer.

[FR Doc. 2018-20276 Filed 9-17-18; 8:45 am]

BILLING CODE 6450-01-P